FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012227.

Title: NYK/Eukor North America/Far East Space Charter Agreement.

Parties: Nippon Yusen Kaisha and Eukor Car Carrier Inc.

Filing Party: Robert Shababb, Corporate Counsel, NYK Line (North America) Inc.; 300 Lighting Way, 5th Floor; Secaucus, NJ 07094.

Synopsis: The agreement authorizes NYK and Eukor to charter space to each other on each other's ro-ro vessels in the trade between various North America coastal ports, on the one hand, and Japan, South Korea, and China, on the other hand.

Agreement No.: 012230.

Title: P3 Network Vessel Sharing Agreement.

Parties: A.P. Moller-Maersk A/S trading under the name Maersk Line; CMA CGM S.A.; and MSC Mediterranean Shipping Company, S.A.

Filing Party: Wayne R. Rohde, Esq.; Cozen O'Connor; 1627 I Street NW., Suite 1100; Washington, DC 20006.

Synopsis: The agreement authorizes the parties to share vessels and engage in related cooperative activities in the trades between each of Asia, North Europe, and the Mediterranean on the one hand and the U.S. on the other hand.

By Order of the Federal Maritime Commission.
Dated: October 25, 2013.
Rachel E. Dickon,
Assistant Secretary.

[FR Doc. 2013-25785 Filed 10-29-13; 8:45 am]

BILLING CODE 6730-01-P